DEPARTMENT OF HOMELAND SECURITY

Transportation Security Administration

Intent to Request Renewal From OMB of One Current Public Collection of Information: Corporate Security Review (CSR)

AGENCY: Transportation Security Administration (TSA), DHS.

ACTION: Notice.

SUMMARY: TSA invites public comment on one currently approved information collection requirement abstracted below that we will submit to the Office of Management and Budget (OMB) for renewal in compliance with the Paperwork Reduction Act.

DATES: Send your comments by January 3, 2006.

ADDRESSES: Katrina Wawer, Information Collection Specialist, Office of Transportation Security Policy, TSA-9, Transportation Security Administration, 601 South 12th Street, Arlington, VA 22202-4220.

FOR FURTHER INFORMATION CONTACT: Katrina Wawer at the above address or by telephone (571) 227-1995 or facsimile (571) 227-2594.

SUPPLEMENTARY INFORMATION:

Comments Invited

In accordance with the Paperwork Reduction Act of 1995, (44 U.S.C. 3501 et seq.), an agency may not conduct or sponsor, and a person is not required to respond to a collection of information, unless it displays a valid OMB control number. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Corporate Security Review (CSR).

Type of Request: Renewal of one current public collection.

OMB Control Number: 1652-0036.

Forms(s): Corporate Security Review Form.

Affected Public: Surface Transportation System Owners and Operators.

Abstract: The Aviation and Transportation Security Act of 2001 (ATSA) (Public Law 107-71) requires TSA to oversee the security of the nation's surface transportation system. Specifically, ATSA grants TSA authority to execute its responsibilities for:

• Enhancing security in all modes of transportation;

• Assessing intelligence and other information in order to identify threats to transportation security; and

• Coordinating countermeasures with other Federal agencies to address such threats, including the authority to receive, assess, and distribute intelligence information related to transportation security (49 U.S.C. 114(d), (f)(1)-(5), (h)(1)-(4)).

To support these requirements, TSA assesses the current security practices in the surface transportation sector by way of site visits and interviews through it's Corporate Security Review (CSR) program, one piece of a much larger domain awareness, prevention, and protection program in support of TSA's and Department of Homeland Security's missions. TSA is seeking to renew its OMB approval for this information collection so that TSA can continue to ascertain minimum-security standards and identify coverage gaps, activities that are critical to its mission of ensuring transportation security.

The CSR is an “instructive” review that provides TSA with an understanding of each surface transportation owner/operator's ability to protect its critical assets. In carrying out CSRs, teams of modal experts from TSA conduct site visits of critical highway, mass transit, pipeline, and rail assets throughout the nation. The TSA team analyzes the owner's/operator's security plan and determines if the mitigation measures included in the plan are being implemented. In addition to reviewing the security plan document, TSA tours the site and interviews the owner's/operator's security coordinator, employees, and contractors. TSA collects information on eleven topics: threat assessments, vulnerability assessments, security planning, credentialing, secure areas, infrastructure protection, physical security countermeasures, cyber security, training, communications, and exercises. TSA conducts this collection through voluntary face-to-face visits, which last an average of two days, at the company/agency headquarters of surface transportation owners/operators. Typically, TSA sends three employees to conduct a two-day discussion/interview with representatives from the company/agency owner/operator. At the conclusion of these site visits, TSA completes the Corporate Security Review form, which asks questions concerning the above mentioned topics. TSA does not plan to collect information from small businesses or other small entities at this time.

The annual hour burden for this information collection is estimated to be 1,200 hours. While TSA estimates a total of 500 potential respondents, this estimate is based on TSA conducting 75 visits per year, each visit lasting 2 days (2 8-hour work days). The total annual cost burden to respondents is $0.00.

Number of Respondents: 500.

Estimated Annual Burden Hours: An estimated 1,200 hours annually.

Issued in Arlington, Virginia, on October 25, 2005.
Lisa S. Dean,
Privacy Officer.

[FR Doc. 05-21813 Filed 11-1-05; 8:45 am]

BILLING CODE 4910-62-P